DEPARTMENT OF ENERGY

Energy Information Administration

Agency Information Collection Extension

AGENCY: U.S. Energy Information Administration (EIA), U.S. Department of Energy (DOE).

ACTION: Notice.

SUMMARY: DOE submitted an information collection request for extension as required by the Paperwork Reduction Act of 1995. The information collection requests a three-year extension of Form DOE-417 Electric Emergency Incident and Disturbance Report, OMB Control Number 1901-0288. The collection will enable DOE to monitor electric emergency incidents and disturbances in the United States (including all 50 States, the District of Columbia, Puerto Rico, the U.S. Virgin Islands, and the U.S. Territories). The information collected allows DOE to conduct post-incident reviews examining significant interruptions of electric power or threats to the national electric system.

DATES: Comments on this information collection must be received no later than March 22, 2024. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Matthew Tarduogno, U.S. Department of Energy, telephone (202) 586-2892, or by email at Matthew.Tarduogno@hq.doe.gov. The forms and instructions are available online at: https://www.oe.netl.doe.gov/oe417.aspx.

SUPPLEMENTARY INFORMATION: This information collection request contains

(1) OMB No.: 1901-0288;

(2) Information Collection Request Title: Electric Emergency Incident and Disturbance Report;

(3) Type of Request: Three-year extension with changes;

(4) Purpose: DOE uses Form DOE-417 Emergency Incident and Disturbance Report to monitor electric emergency incidents and disturbances in the United States (including all 50 States, the District of Columbia, Puerto Rico, the U.S. Virgin Islands, and the U.S. Territories) and to investigate significant interruptions of electric power or threats to the electric system reliability. Form DOE-417 also enables DOE to meet the Department's national security responsibilities as the coordinating agency for Emergency Support Function (ESF) #12—Energy, under the National Response Framework, and the Sector-Specific Agency for the energy sector, pursuant to Presidential Policy Directive 21—Critical Infrastructure Security and Resilience, Presidential Policy Directive 41—United States Cyber Incident Coordination, and the Fixing Americas Surface Transportation (FAST) Act, Public Law 114-94. The information may also be shared with other non-regulatory federal agencies assisting in emergency response and recovery operations or investigating the causes of an incident or disturbance to the national electric system. Public summaries of Form DOE-417 submissions are published on the DOE-417 web page (https://www.oe.netl.doe.gov/oe417.aspx) on a regular basis to keep the public informed.

(4a) Changes to Information Collection: DOE proposes to make changes to Form DOE-417 to continue to ensure future alignment with the North American Electric Reliability Corporation (NERC) CIP-008-6 Reliability Standard, as well as the NERC EOP-004-6 Reliability Standard, and potential future changes. The continued alignment between Form DOE-417 and NERC reporting requirements helps minimize confusion among industry stakeholders about where and how to file reports and enable industry stakeholders to train personnel to report using a single form. Additional changes to Form DOE-417 clarify reporting criteria and updated types of entities that are required to submit certain criteria. A summary of these and other changes to Form DOE-417 is provided below:

• Minor edit to alert criteria 2 to add “as defined in the NERC Glossary of Terms”

• Under “Criteria for Filing” section added alert criteria 27, “Uncontrolled loss of a total of 500 MW or more from inverter-based resource(s) for greater than 30 minutes at a common point of interconnection to the bulk electric system.”

• Under “Cause” in the “Type of Emergency” section added the following subcategories to physical attack:

○ Ballistic

○ Arson

○ Explosive device

○ Other

• Under “Cause” in the “Type of Emergency” section added the following subcategories to suspicious activity:

○ Aircraft or Unmanned Aerial System (UAS)

○ Trespassing or non-destructive intrusion

○ Surveillance

○ Vandalism

○ Other

• Under “Cause” in the “Type of Emergency” combined “(Cyber event information technology)” and “cyber event (operational technology)” and added the following subcategories:

○ Information Technology

○ Operational Technology

• Updated Instructions: Replaced “Office of Electricity” with “Office of Cybersecurity, Energy Security, and Emergency Response

• Updated Instructions: Replaced “oe417@hq.doe.gov” with “DOE417@hq.doe.gov.”

• Updated Instructions: Replaced “Assistant Secretary” with “Director”

• Updated Instructions: Appendix A. Replace “What is Excluded” text for generating entities with “Entities who have 300 MW or more of generation detected to one or more end-use customers (e.g. retail or industrial customers), except for commercial power reactors regulated by the Nuclear Regulatory Commission and subject to the physical and cybersecurity event notification requirements of 10 CFR part 73. All items need to be addressed.”

• On Line F., Date/Time Incident Began.: Added Atlantic and Chamorro time zones

• On Line G., Date/Time Incident Ended: Added Atlantic and Chamorro time zones

(5) Annual Estimated Number of Respondents: 2,174;

(6) Annual Estimated Number of Total Responses: 400;

(7) Annual Estimated Number of Burden Hours: 5,025;

(8) Annual Estimated Reporting and Recordkeeping Cost Burden: $438,984. DOE estimates that respondents will have no additional costs associated with the surveys other than the burden hours and the maintenance of the information during the normal course of business.

Statutory Authority: 15 U.S.C. 772(b), 764(b); 764(a); and 790a and 42 U.S.C. 7101 et seq. and the Public Utility Regulatory Policies Act of 1978 (16 U.S.C. 2601, Pub. L. 93-275.

Signed in Washington, DC, on February 15, 2024.
Samson A. Adeshiyan,
Director, Office of Statistical Methods & Research, U. S. Energy Information Administration.

[FR Doc. 2024-03515 Filed 2-20-24; 8:45 am]

BILLING CODE 6450-01-P